DEPARTMENT OF THE INTERIOR

National Park Service

Notice of Public Meeting

AGENCY: National Park Service, Interior.

ACTION: Notice of public meeting for the National Park Service (NPS) Alaska Region's Subsistence Resource Commission (SRC) program.

SUMMARY: The Denali National Park SRC plans to meet to develop and continue work on NPS subsistence hunting program recommendations and other related subsistence management issues. The NPS SRC program is authorized under Title VIII, Section 808 of the Alaska National Interest Lands Conservation Act, Public Law 96-487, to operate in accordance with the provisions of the Federal Advisory Committee Act.

Public Availability of Comments: The meeting is open to the public and will have time allocated for public testimony. The public is welcome to present written or oral comments to the SRC. The meeting will be recorded and meeting minutes will be available upon request from the park superintendent in approximately six weeks. Before including your address, telephone number, e-mail address, or other personal identifying information in your written or oral comments, you should be aware that your entire comment—including your personal identifying information—may be made publicly available at any time. While you can ask us in your comment to withhold your personal identifying information from public review, we cannot guarantee that we will be able to do so.

Denali National Park SRC Meeting Date and Location: The Denali National Park SRC meeting will be held on Saturday, August 28, 2010, from 9 a.m. to 4:30 p.m. at the Cantwell Community Hall, Tel. (907) 786-2591, in Cantwell, AK. The meeting may end early if all business is completed. If the meeting date and location are changed due to lack of a quorum, inclement weather or local circumstances, the park superintendent will provide public notice.

FOR FURTHER INFORMATION CONTACT: For Further Information on The Denali National Park SRC Meeting Contact: Amy Craver, Subsistence Manager, (907) 683-2294, Denali National Park and Preserve, P.O. Box 9, Denali Park, AK 99755, or Clarence Summers, Subsistence Manager, NPS Alaska Regional Office, at (907) 644-3603.

Proposed SRC Meeting Agenda

The proposed meeting agenda for each meeting includes the following:

1. Call to order

2. SRC Roll Call and Confirmation of Quorum

3. SRC Chair and Superintendent's Welcome and Introductions

4. Administrative Announcements

5. Review and Approve Agenda

6. Approval of Minutes from Last SRC Meeting

7. SRC Member Reports

8. Public and Other Agency Comments

9. SRC Membership

10. Old Business

a. Denali Subsistence Management Plan

b. Subsistence Uses of Horns, Antlers, Bones and Plants EA Update

11. New Business

a. Subsistence Manager Update

1. Federal Subsistence Board—Fish and Wildlife Update

2. Federal Subsistence Board Program Review Update

3. Alaska Board of Game Update

4. Denali National Park and Preserve Subsistence Projects

b. Ranger Report Update

c. Resource Management Program Update

d. Fire Management Program Update

12. Public and other Agency Comments

13. SRC Work/Training Session

14. Set Time and Place for next SRC Meeting

15. Adjournment

Sue E. Masica,
Regional Director, Alaska.

[FR Doc. 2010-17082 Filed 7-13-10; 8:45 am]

BILLING CODE P